DEPARTMENT OF HEALTH AND HUMAN SERVICES

Centers for Disease Control and Prevention

[60-Day-10-10CB]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

A Survey to Evaluate Occupational Safety and Health Educational Materials for Home Care Workers—New—National Institute for Occupational Safety and Health (NIOSH), Centers for Disease Control and Prevention (CDC).

Background and Brief Description

The mission of the National Institute for Occupational Safety and Health (NIOSH) is to promote safety and health at work for all people through research and prevention. Under Public Law 91-596, Sections 20 and 22 (section 20-22, Occupational Safety and Health Act of 1970), NIOSH has the responsibility to conduct research to advance the health and safety of workers. In this capacity, NIOSH will conduct a survey of home care workers to evaluate newly developed educational intervention materials.

Home care workers who provide housekeeping and routine personal care services to elderly, disabled or ill individuals in their homes, constitute one of the fastest growing occupational groups, estimated at about 1,500,000 workers. In 1997, the U.S. Bureau of Labor Statistics issued a special report on work-related injuries to home care workers showing an injury rate which was 50% higher than that of workers employed in the private hospital sector and 70% higher than the overall rate for all private industry workers.

NIOSH has developed educational intervention materials for home care workers to prevent exposure to work-related hazards. The intervention materials consist of a printed handbook and a training session that explains how to use the handbook. The primary goal of the handbook and training session is to help home care workers and their clients identify hazards, discuss these hazards and identify accessible and low cost tips and tools for minimizing exposures to hazards. These materials have been developed and piloted in Alameda County, California. The goal of this data collection is to evaluate these materials before disseminating them more broadly.

The study population for this survey includes current home care workers and their clients who are enrolled in the In-Home Supportive Services (IHSS) Program in Alameda County, California.

NIOSH has obtained input on the content and operational aspects of the survey through local stakeholder meetings. The survey instrument has been reviewed by subject matter experts and cognitive interviews have been conducted using the survey instrument. Input received was used to guide development of the survey instrument and plans for survey implementation.

All Alameda County IHSS home care workers will be invited to participate. Volunteers will complete a brief interest response form which will be returned to the study contractor and the first 320 eligible volunteers will be randomized into either an intervention or a control group. The primary client for each home care worker participant will also be invited to participate but the clients' willingness to participate will not affect whether a home care workers can remain as a study participant. Both the home care worker and their primary client will complete two telephone surveys with a two month interval between the two surveys. Data from the telephone survey will be captured directly into an electronic database. For the intervention group the home care workers will receive the intervention materials and training during the interval between the two surveys. The control group will receive their intervention materials and training after the completion of the second survey. Each telephone survey will last approximately 30 minutes for home care workers and 15 minutes for clients. Because of the demographics of the population intervention materials as well as the evaluation surveys are in three languages: English, Spanish and Chinese.

Information will be collected on demographic variables including age, sex, race, education, income, primary language, and marital status. Information will be collected on the number of years a worker has been employed as a home care worker and the number of years a client has received home care services. Information will also be collected on working conditions and occupational exposures, work related injuries, knowledge of work-related health risks and workers' perception of the ease of controlling hazards. Finally, information will be collected from workers on their job satisfaction and clients on their satisfaction with caregiver services, on the quality of the caregiver and client relationships, and specific questions regarding use of the intervention materials.

The purpose of this information collection is to evaluate whether or not the educational materials (the Home Care Worker Handbook and training session) are effective in (1) conveying the intended message and (2) encouraging home care workers and their clients to make changes to reduce hazards. Without benefit of the evaluation, CDC will be unable to determine the effectiveness of the materials or formulate recommendations on their appropriate use and broader dissemination.

Once the study is completed, results will be made available via various means including the NIOSH internet site. NIOSH expects to complete data collection no later than winter of 2011. There is no cost to respondents other than their time.

Estimated Annualized Burden Hours
Type of respondent | Form name | Number of respondents | Number of responses per respondent | Average burden per response (in hours) | Total burden (in hours)
Home care workers | Worker interest response form | 1500 | 1 | 2/60 | 50
| Worker survey (pre) | 320 | 1 | 30/60 | 160
| Worker Training program | 320 | 1 | 1 | 320
| Worker survey (post) | 320 | 1 | 30/60 | 160
Home care clients | Client survey (pre) | 320 | 1 | 15/60 | 80
| Client survey (post) | 320 | 1 | 15/60 | 80
Total |  |  |  |  | 850

Dated: March 11, 2010.
Maryam I. Daneshvar,
Acting Reports Clearance Officer, Centers for Disease Control and Prevention.

[FR Doc. 2010-5841 Filed 3-16-10; 8:45 am]

BILLING CODE 4163-18-P